DEPARTMENT OF COMMERCE

National Oceanic and Atmospheric Administration

RIN 0648-XD788

North Pacific Fishery Management Council; Public Meeting

AGENCY: National Marine Fisheries Service (NMFS), National Oceanic and Atmospheric Administration (NOAA), Commerce.

ACTION: Notice of public meetings.

SUMMARY: The North Pacific Fishery Management Council (Council) Ecosystem Committee will meet in Seattle, WA.

DATES: The meeting will be held March 17-18, 2015, from 9 a.m. to 5 p.m.

ADDRESSES: The meeting will be held at The Mountaineers Seattle Program Center, 7700 Sand Point Way NE., Cascade Room, Seattle, WA. Teleconference will be available by calling (712) 775-7031, access code 403-899-011.

Council address: North Pacific Fishery Management Council, 605 W. 4th Ave., Suite 306, Anchorage, AK 99501-2252.

FOR FURTHER INFORMATION CONTACT: Steve MacLean, Council staff; telephone: (907) 271-2809.

SUPPLEMENTARY INFORMATION: The Committee will discuss the following issues: (1) Ecosystem Vision Statement; (2) updates on Essential Fish Habitat 5-year review, Norton Sound king crab research, deep-sea corals research, Bering Strait Marine Life and Subsistence Data Synthesis, Aleutian Islands Risk Assessment, Arctic and Bering Sea shipping, Alaska Arctic Policy Commission final report, AOOS ocean acidification workshop; (3) Bering Sea Fishery Ecosystem Plan.

The Agenda is subject to change, and the latest version is posted at http://www.npfmc.org/committees/ecosystem-committee/.

Special Accommodations

These meetings are physically accessible to people with disabilities. Requests for sign language interpretation or other auxiliary aids should be directed to Gail Bendixen at (907) 271-2809 at least 7 working days prior to the meeting date.

Dated: February 19, 2015.
Tracey L. Thompson,
Acting Deputy Director, Office of Sustainable Fisheries, National Marine Fisheries Service.

[FR Doc. 2015-03716 Filed 2-23-15; 8:45 am]

BILLING CODE 3510-22-P